DEPARTMENT OF HEALTH AND HUMAN SERVICES

Administration for Children and Families

Proposed Information Collection Activity; Comment Request

Title: Cross-Site Evaluation of the Children's Bureau Grantee.

Cluster: Supporting Evidence-Based Home Visiting Programs to Prevent Child Maltreatment (EBHV).

OMB No.: New Collection.

Description: The Administration for Children and Families (ACF), U.S. Department of Health and Human Services (HHS), is proposing this cross-site evaluation data collection activity to identify successful strategies for adopting, implementing, and sustaining high-quality home visitation programs to prevent child maltreatment. An evaluation study will address four domains: (1) Systems change to develop infrastructure, (2) fidelity to home visiting models, (3) costs, and (4) family and child outcomes (via a review of grantee analysis reports). A process study will focus on the broader grant initiative to understand how programs plan and develop the infrastructure needed to support home visitation services and how programs ensure service quality.

Information will be collected through biennial site visits, semi-annual progress reports, and monthly entries into a web-based data system. Site visits will include interviews with key grantee staff and stakeholders involved in the execution of the grant and in the efforts to make system changes. Progress report cross-site evaluation data will capture the costs of home visiting and provide additional information on systems change. Web-based data entry will include EBHV program and participant characteristics along with systems change updates on goals and operations every six months. Additionally, cross-site data will be collected via questionnaires on the home visit relationship and a systems partnership survey.

Respondents: EBHV grantee and key staff (i.e., evaluators, home visitors and supervisors), partners, and home visiting participants.

Annual Burden Estimates
Instrument | Annual number of respondents | Number of responses per respondents | Average burden hour per response | Estimated annual burden hours
EBHV grantee and key staff-partner interview guide | 249 | 2 | 1.6 | 797
EBHV grantee progress report evaluation data | 17 | 2 | 8.00 | 272
EBHV grantee web-based data entry system | 17 | 12 | 9.50 | 1,938
Participant home visiting relationship questionnaire | 2,000 | 2 | 0.25 | 1,000
Home Visitor home visiting relationship questionnaire | 2,000 | 2 | 0.25 | 1,000
EBHV grantee-partner systems partnership survey | 142 | 2 | 0.33 | 94

Estimated Total Burden Hours: 5,101.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade, SW., Washington, DC 20447, Attn: OPRE Reports Clearance Officer. E-mail address: OPREinfocollection@acf.hhs.gov. All requests should be identified by the title of the information collection.

The Department specifically requests comments on (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: June 17, 2009.
Seth F. Chamberlain,
OPRE Reports Clearance Officer.

[FR Doc. E9-14624 Filed 6-22-09; 8:45 am]

BILLING CODE 4184-01-M